DEPARTMENT OF ENERGY

Federal Energy Regulatory Commission

[Project No. 14616-000]

Oregon State University; Notice of Scoping Meeting and Soliciting Scoping Comments for an Applicant Prepared Environmental Assessment Using the Alternative Licensing Process

a. Type of Filing: Notice of Intent to File License Application and Pre-Application Document for an Original License.

b. Project No.: 14616-000.

c. Applicant: Oregon State University.

d. Name of Project: Pacific Marine Energy Test Center South Energy Test Site.

e. Location: Pacific Ocean approximately six nautical miles off the coast of Newport, Oregon on the Outer Continental Shelf.

f. Filed Pursuant to: Federal Power Act, 16 U.S.C. 791(a)-825(r).

g. Applicant Contact: Belinda Batten, Oregon State University, 350 Batcheller Hall, Corvallis, OR 97331; (541) 737-9492; email at Belinda.Batten@oregonstate.edu.

h. FERC Contact: Jim Hastreiter at (503) 552-2760; or email at james.hastreiter@ferc.gov.

i. Deadline for filing scoping comments: August 4, 2014.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14616-000.

j. The proposed project would consist of: (1) Four offshore test berths; (2) a maximum of 20 wave energy conversion (WEC) devices with a maximum total installed capacity of 20 megawatts; (2) various WEC devices including point absorbers, oscillating water column, overtopping, attenuator, and “other” types that utilize a combination of technology designs; (3) various anchoring systems including gravity based anchors, drag anchors, and embedment anchors, consisting of steel, concrete, or a mixture of steel and concrete; (4) single- or 3-point mooring systems consisting of chain, steel cables, or synthetic materials; (5) mooring infrastructure including surface buoys, subsurface floats, and chain, wire or rope, as catenary, tendon or bridle lines; (6) subsea connectors; (7) buried subsea transmission cables converging in a nearshore conduit; (8) an onshore cable landing connecting to a power monitoring and conditioning facility; (9) grid-interconnection at Central Lincoln Public Utility District substation; and (10) appurtenant facilities.

k. Scoping Process:

Oregon State University (OSU) intends to utilize the Federal Energy Regulatory Commission's (Commission) alternative licensing process (ALP). Under the ALP, OSU will prepare an Applicant Prepared Environmental Assessment (APEA) and license application for the Pacific Marine Energy Test Center South Energy Test Site.

OSU expects to file with the Commission, the APEA and the license application for the Pacific Marine Energy Test Center South Energy Test Site Project by December 2015. Although the Commission's intent is to prepare an EA, there is the possibility that an Environmental Impact Statement (EIS) will be required. Nevertheless, this meeting will satisfy the NEPA scoping requirements, irrespective of whether an EA or EIS is issued by the Commission.

The purpose of this notice is to inform you of the opportunity to participate in the upcoming scoping meetings and environmental site review identified below, and to solicit your scoping comments.

Scoping Meetings and Environmental Site Review

OSU and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings and environmental site review are as follows:

Daytime Meeting

Wednesday, July 9, 2014

1:00 p.m.

Hatfield Marine Science Center

Guin Library (Seminar Room)

2121 SE Marine Science Drive

Newport, Oregon 97365

Evening Meeting

Wednesday, July 9, 2014

7:00 p.m.

Hatfield Marine Science Center

Visitor Center Auditorium

2030 SE Marine Science Drive

Newport, Oregon 97365

Environmental Site Review

Thursday, July 10, 2014

Ona Beach State Park

Day Use Beach Parking Lot (west of Hwy. 101)

Oregon Coast Highway

Waldport, Oregon 97376

Please notify Brenda Langley at brenda.langley@oregonstate.edu or (541) 737-6138 by June 25, 2014, if you plan to attend the site visit.

To help focus discussions, Scoping Document 1 (SD1) was mailed by OSU on June 5, 2014, outlining the subject areas to be addressed in the APEA, to the parties on the mailing list. Copies of the SD1 also will be available at the scoping meetings. OSU will file SD1 with the Commission and the document will be available for review at the Commission in the Public Reference Room or may be viewed on the Commission's Web site at http://www.ferc.gov using the “eLibrary” link. Enter the docket number excluding the last three digits in the docket number field to access the document.

You may also register online at http://www.ferc.gov/docs-filing/esubscription.asp to be notified via email of new filings and issuances related to this or other pending projects. For assistance, contact FERCONlineSupport@ferc.gov.

Based on all written comments received, a Scoping Document 2 (SD2) may be issued. SD2 will include a revised list of issues, based on the scoping sessions.

Objectives

At the scoping meetings, OSU and Commission staff will: (1) Summarize the environmental issues tentatively identified for analysis in the APEA; (2) solicit from the meeting participants all available information, especially quantifiable data, on the resources at issue; (3) encourage statements from experts and the public on issues that should be analyzed in the APEA, including viewpoints in opposition to, or in support of, the OSU and Commission staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist OSU in defining and clarifying the issues to be addressed in the APEA.

Dated: May 5, 2014.
Kimberly D. Bose,
Secretary.

[FR Doc. 2014-13700 Filed 6-11-14; 8:45 am]

BILLING CODE 6717-01-P